DEPARTMENT OF THE TREASURY

Office of Foreign Assets Control

Additional Designation of Entities Pursuant to Executive Order 13382

AGENCY: Office of Foreign Assets Control, Treasury.

ACTION: Notice.

SUMMARY: The Treasury Department's Office of Foreign Assets Control (“OFAC”) is publishing the names of 37 newly-designated entities and 5 newly-designated individuals whose property and interests in property are blocked pursuant to Executive Order 13382 of June 28, 2005, “Blocking Property of Weapons of Mass Destruction Proliferators and Their Supporters.”

DATES: The designation by the Director of OFAC of the 37 entities and 5 individuals identified in this notice pursuant to Executive Order 13382 is effective on October 27, 2010.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available from OFAC's Web site (http://www.treas.gov/offices/ enforcement/ ofac) or via facsimile through a 24-hour fax-on demand service, tel.: (202) 622-0077.

Background

On June 28, 2005, the President, invoking the authority, inter alia, of the International Emergency Economic Powers Act (50 U.S.C. 1701-1706) (“IEEPA”), issued Executive Order 13382 (70 FR 38567, July 1, 2005) (the “Order”), effective at 12:01 a.m. eastern daylight time on June 29, 2005. In the Order, the President took additional steps with respect to the national emergency described and declared in Executive Order 12938 of November 14, 1994, regarding the proliferation of weapons of mass destruction and the means of delivering them.

Section 1 of the Order blocks, with certain exceptions, all property and interests in property that are in the United States, or that hereafter come within the United States or that are or hereafter come within the possession or control of United States persons, of: (1) The persons listed in the Annex to the Order; (2) any foreign person determined by the Secretary of State, in consultation with the Secretary of the Treasury, the Attorney General, and other relevant agencies, to have engaged, or attempted to engage, in activities or transactions that have materially contributed to, or pose a risk of materially contributing to, the proliferation of weapons of mass destruction or their means of delivery (including missiles capable of delivering such weapons), including any efforts to manufacture, acquire, possess, develop, transport, transfer or use such items, by any person or foreign country of proliferation concern; (3) any person determined by the Secretary of the Treasury, in consultation with the Secretary of State, the Attorney General, and other relevant agencies, to have provided, or attempted to provide, financial, material, technological or other support for, or goods or services in support of, any activity or transaction described in clause (2) above or any person whose property and interests in property are blocked pursuant to the Order; and (4) any person determined by the Secretary of the Treasury, in consultation with the Secretary of State, the Attorney General, and other relevant agencies, to be owned or controlled by, or acting or purporting to act for or on behalf of, directly or indirectly, any person whose property and interests in property are blocked pursuant to the Order.

On October 27, 2010, the Director of OFAC, in consultation with the Departments of State, Justice, and other relevant agencies, designated 37 entities and 5 individuals whose property and interests in property are blocked pursuant to Executive Order 13382.

The list of additional designees is as follows:

Entities

1. DARYA CAPITAL ADMINISTRATION GMBH, Schottweg 6, Hamburg 22087, Germany; Business Registration Document #HRB94311 (Germany) issued 21 Jul 2005 [NPWMD]

2. EIGHTH OCEAN ADMINISTRATION GMBH, Schottweg 5, Hamburg 22087, Germany; Business Registration Document #HRB94633 (Germany) issued 24 Aug 2005 [NPWMD]

3. EIGHTH OCEAN GMBH & CO. KG, c/o Islamic Republic of Iran Shipping Lines (IRISL), No. 37, Aseman Tower, Sayyade Shirazee Square, Pasdaran Ave., P.O. Box 19395-1311, Tehran, Iran; Schottweg 5, Hamburg 22087, Germany; Business Registration Document #HRA102533 (Germany) issued 1 Sep 2005; E-mail Address smd@irisl.net; Web site http://www.irisl.net; Telephone: 00982120100488; Fax: 00982120100486 [NPWMD]

4. ELEVENTH OCEAN ADMINISTRATION GMBH, Schottweg 5, Hamburg 22087, Germany; Business Registration Document #HRB94632 (Germany) issued 24 Aug 2005 [NPWMD]

5. ELEVENTH OCEAN GMBH & CO. KG, c/o Islamic Republic of Iran Shipping Lines (IRISL), No. 37, Aseman Tower, Sayyade Shirazee Square, Pasdaran Ave., P.O. Box 19395-1311, Tehran, Iran; Schottweg 5, Hamburg 22087, Germany; Business Registration Document #HRA102544 (Germany) issued 9 Sep 2005; E-mail Address smd@irisl.net; Web site http://www.irisl.net; Telephone: 004940302930; Telephone: 00982120100488; Fax: 00982120100486 [NPWMD]

6. FIFTEENTH OCEAN GMBH & CO. KG, Schottweg 5, Hamburg 22087, Germany; c/o Islamic Republic of Iran Shipping Lines (IRISL), No. 37, Aseman Tower, Sayyade Shirazee Square, Pasdaran Ave., P.O. Box 19395-1311, Tehran, Iran; Business Registration Document #HRA104175 (Germany) issued 12 Jul 2006; E-mail Address smd@irisl.net; Web site http://www.irisl.net; Telephone: 00982120100488; Fax: 00982120100486 [NPWMD]

7. FIFTH OCEAN ADMINISTRATION GMBH, Schottweg 5, 22087, Hamburg, Germany; Business Registration Document #HRB94315 (Germany) issued 21 Jul 2005 [NPWMD]

8. FIFTH OCEAN GMBH & CO. KG, c/o Hafiz Darya Shipping Co, No 60, Ehteshamiyeh Square, 7th Neyestan Street, Pasdaran Avenue, Tehran, Iran; Schottweg 5, Hamburg 22087, Germany; Business Registration Document #HRA102599 (Germany) issued 19 Sep 2005; E-mail Address info@hdslines.com; Web site http://www.hdslines.com; Telephone: 00494070383392; Telephone: 00982126100733; Fax: 00982120100734 [NPWMD]

9. FIRST OCEAN ADMINISTRATION GMBH, Schottweg 5, 22087, Hamburg, Germany; Business Registration Document #HRB94311 (Germany) issued 21 Jul 2005 [NPWMD]

10. FIRST OCEAN GMBH & CO. KG, Schottweg 5, Hamburg 22087, Germany; c/o Islamic Republic of Iran Shipping Lines (IRISL), No. 37, Aseman Tower, Sayyade Shirazee Square, Pasdaran Ave., P.O. Box 19395-1311, Tehran, Iran; Business Registration Document #HRA102601 (Germany) issued 19 Sep 2005; E-mail Address smd@irisl.net; Web site http://www.irisl.net; Telephone: 00982120100488; Fax: 00982120100486 [NPWMD]

11. FOURTEENTH OCEAN GMBH & CO. KG, Schottweg 5, Hamburg 22087, Germany; c/o Islamic Republic of Iran Shipping Lines (IRISL), No. 37, Aseman Tower, Sayyade Shirazee Square, Pasdaran Ave., P.O. Box 19395-1311, Tehran, Iran; Business Registration Document #HRA104174 (Germany) issued 12 Jul 2006; E-mail Address smd@irisl.net; Web site http://www.irisl.net; Telephone: 00982120100488; Fax: 00982120100486 [NPWMD]

12. FOURTH OCEAN ADMINISTRATION GMBH, Schottweg 5, Hamburg 22087, Germany; Business Registration Document #HRB94314 (Germany) issued 21 Jul 2005 [NPWMD]

13. FOURTH OCEAN GMBH & CO. KG, Schottweg 5, Hamburg 22087, Germany; c/o Islamic Republic of Iran Shipping Lines (IRISL), No. 37, Aseman Tower, Sayyade Shirazee Square, Pasdaran Ave., P.O. Box 19395-1311, Tehran, Iran; Business Registration Document #HRA102600 (Germany) issued 19 Sep 2005; E-mail Address smd@irisl.net; Web site http://www.irisl.net; Telephone: 00494070383392; Telephone: 00982120100488; Fax: 00982120100486 [NPWMD]

14. HTTS HANSEATIC TRADE TRUST AND SHIPPING, GMBH, Schottweg 7, Hamburg 22087, Germany; Schottweg 5, Hamburg 22087, Germany; Business Registration Document #HRB109492 (Germany); Web site http://www.httsgmbh.com; alt. Web site http://www.irisl-europe.de; Telephone: 004940278740; Telephone: 004940600383200; Telephone: 0049406003830; Telephone: 00494027874112; Fax: 00494027874200 [NPWMD]

15. KERMAN SHIPPING CO LTD, 143/1 Tower Road, SLM1604, Sliema, Malta; c/o Hafiz Darya Shipping Co, No 60, Ehteshamiyeh Square, 7th Neyestan Street, Pasdaran, Tehran, Iran; Business Registration Document #C37423 (Malta) issued 2005; E-mail Address info@hdslines.com; Web site http://www.hdslines.com; Telephone: 0035621317171; Telephone: 00982126100733; Fax: 0035621317172; Fax: 00982120100734 [NPWMD]

16. LANCELIN SHIPPING COMPANY LIMITED, Fortuna Court, Block B, 284 Archiepiskopou Makariou C' Avenue, 2nd Floor, 3105, Limassol, Cyprus; c/o Soroush Sarzamin Asatir (SSA) Ship Management Co, Shabnam Alley Golriz St, Vafa Alley, Fajr St, Shahid Motahari Avenue, 1589675951, Tehran, Iran; Business Registration Document #C133993 (Cyprus) issued 2002; E-mail Address info@demetriades.com; alt. E-mail Address info@ssa-smc.net; Web site http://www.irisl.net; alt. Web site http://www.ssa-smc.net; Telephone: 0035725800000; Telephone: 00982126100191; Fax: 0035725588055; Fax: 0035725587191; Fax: 00982126100192 [NPWMD]

17. NARI SHIPPING AND CHARTERING GMBH & CO. KG, Schottweg 5, Hamburg 22087, Germany; Business Registration Document #HRA102485 (Germany) issued 19 Aug 2005; Telephone: 004940278740 [NPWMD]

18. NINTH OCEAN ADMINISTRATION GMBH, Schottweg 5, 22087, Hamburg, Germany; Business Registration Document #HRB94698 (Germany) issued 9 Sep 2005 [NPWMD]

19. NINTH OCEAN GMBH & CO. KG, Schottweg 5, Hamburg 22087, Germany; c/o Islamic Republic of Iran Shipping Lines (IRISL), No. 37, Aseman Tower, Sayyade Shirazee Square, Pasdaran Ave., P.O. Box 19395-1311, Tehran, Iran; Business Registration Document #HRA102565 (Germany) issued 15 Sep 2005; E-mail Address smd@irisl.net; Web site http://www.irisl.net; Telephone: 00982120100488; Fax: 00982120100486 [NPWMD]

20. OCEAN CAPITAL ADMINISTRATION GMBH, Schottweg 5, Hamburg 22087, Germany; Business Registration Document #HRB92501 (Germany) issued 4 Jan 2005; Telephone: 004940278740 [NPWMD]

21. SECOND OCEAN ADMINISTRATION GMBH, Schottweg 5, Hamburg 22087, Germany; Business Registration Document #HRB94312 (Germany) issued 21 Jul 2005 [NPWMD]

22. SECOND OCEAN GMBH & CO. KG, Schottweg 5, Hamburg 22087, Germany; c/o Hafiz Darya Shipping Co, No 60, Ehteshamiyeh Square, 7th Neyestan Street, Pasdaran Avenue, Tehran, Iran; Business Registration Document #HRA102502 (Germany) issued 24 Aug 2005; E-mail Address info@hdslines.com; Web site http://www.hdslines.com; Telephone: 00982126100733; Fax: 00982120100734 [NPWMD]

23. SEVENTH OCEAN ADMINISTRATION GMBH, Schottweg 5, Hamburg 22087, Germany; Business Registration Document #HRB94829 (Germany) issued 19 Sep 2005 [NPWMD]

24. SEVENTH OCEAN GMBH & CO. KG, Schottweg 5, Hamburg 22087, Germany; c/o Islamic Republic of Iran Shipping Lines (IRISL), No. 37, Aseman Tower, Sayyade Shirazee Square, Pasdaran Ave., P.O. Box 19395-1311, Tehran, Iran; Business Registration Document #HRA102655 (Germany) issued 26 Sep 2005; E-mail Address smd@irisl.net; Web site http://www.irisl.net; Telephone: 00982120100488; Fax: 00982120100486 [NPWMD]

25. SHERE SHIPPING COMPANY LIMITED, 143/1 Tower Road, SLM1604, Sliema, Malta; c/o Soroush Sarzamin Asatir (SSA) Ship Management Co, Shabnam Alley, Golriz St, Vafa Alley, Fajr St, Shahid Motahari Avenue, 1589675951, Tehran, Iran; Business Registration Document #C39928 (Malta) issued 2006; E-mail Address info@ssa-smc.net; Web site http://www.ssa-smc.net; Telephone: 0035621317171; Telephone: 00982126100191; Fax: 0035621317172; Fax: 00982126100192 [NPWMD]

26. SIXTH OCEAN ADMINISTRATION GMBH, Schottweg 5, Hamburg 22087, Germany; Business Registration Document #HRB94316 (Germany) issued 21 Jul 2005 [NPWMD]

27. SIXTH OCEAN GMBH & CO. KG, Schottweg 5, Hamburg 22087, Germany; c/o Hafiz Darya Shipping Co, No 60, Ehteshamiyeh Square, 7th Neyestan Street, Pasdaran Avenue, Tehran, Iran; Business Registration Document #HRA102501 (Germany) issued 24 Aug 2005; E-mail Address info@hdslines.com; Web site http://www.hdslines.com; Telephone: 00982126100733; Fax: 00982120100734 [NPWMD]

28. TENTH OCEAN GMBH & CO. KG, c/o Islamic Republic of Iran Shipping Lines (IRISL), No. 37, Aseman Tower, Sayyade Shirazee Square, Pasdaran Ave., P.O. Box 19395-1311, Tehran, Iran; Schottweg 5, Hamburg 22087, Germany; Business Registration Document #HRA102679 (Germany) issued 27 Sep 2005; E-mail Address smd@irisl.net; Web site http://www.irisl.net; Telephone: 00982120100488; Fax: 00982120100486 [NPWMD]

29. THIRD OCEAN ADMINISTRATION GMBH, Schottweg 5, Hamburg 22087, Germany; Business Registration Document #HRB94313 (Germany) issued 21 Jul 2005 [NPWMD]

30. THIRD OCEAN GMBH & CO. KG, Schottweg 5, Hamburg 22087, Germany; c/o Islamic Republic of Iran Shipping Lines (IRISL), No. 37, Aseman Tower, Sayyade Shirazee Square, Pasdaran Ave., P.O. Box 19395-1311, Tehran, Iran; Business Registration Document #HRA102520 (Germany) issued 29 Aug 2005; E-mail Address smd@irisl.net; Web site http://www.irisl.net; Telephone: 00982120100488; Fax: 00982120100486 [NPWMD]

31. THIRTEENTH OCEAN GMBH & CO. KG, Schottweg 5, Hamburg 22087, Germany; c/o Islamic Republic of Iran Shipping Lines (IRISL), No. 37, Aseman Tower, Sayyade Shirazee Square, Pasdaran Ave., P.O. Box 19395-1311, Tehran, Iran; Business Registration Document #HRA104149 (Germany) issued 10 Jul 2006; E-mail Address smd@irisl.net; Web site http://www.irisl.net; Telephone: 00982120100488; Fax: 00982120100486 [NPWMD]

32. TONGHAM SHIPPING CO LTD, 143/1 Tower Road, SLM1604, Sliema, Malta; c/o Soroush Sarzamin Asatir (SSA) Ship Management Co, Shabnam Alley Golriz St, Vafa Alley Fajr St, Shahid Motahari Avenue, 1589675951, Tehran, Iran; Business Registration Document #C39931 (Malta) issued 2006; E-mail Address info@ssa-smc.net; Web site http://www.ssa-smc.net; Telephone: 0035621317171; Telephone: 00982126100191; Fax: 0035621317172; Fax: 00982126100192 [NPWMD]

33. TWELFTH OCEAN ADMINISTRATION GMBH, Schottweg 5, Hamburg 22087, Germany; Business Registration Document #HRB94573 (Germany) issued 18 Aug 2005 [NPWMD]

34. TWELFTH OCEAN GMBH & CO. KG, c/o Hafiz Darya Shipping Co, No 60, Ehteshamiyeh Square, 7th Neyestan Street, Pasdaran Avenue, Tehran, Iran; Schottweg 5, Hamburg 22087, Germany; Business Registration Document #HRA102506 (Germany) issued 25 Aug 2005; E-mail Address info@hdslines.com; Web site http://www.hdslines.com; Telephone: 00982126100733; Fax: 00982120100734 [NPWMD]

35. UPPERCOURT SHIPPING COMPANY LIMITED, 143/1 Tower Road, SLM1604, Sliema, Malta; c/o Soroush Sarzamin Asatir (SSA) Ship Management Co, Shabnam Alley Golriz St, Vafa Alley Fajr St, Shahid Motahari Avenue, 1589675951, Tehran, Iran; Business Registration Document #C39926 (Malta) issued 2006; E-mail Address info@ssa-smc.net; Web site http://www.ssa-smc.net; Telephone: 0035621317171; Telephone: 00982126100191; Fax: 0035621317172; Fax: 00982126100192 [NPWMD]

36. VOBSTER SHIPPING COMPANY LTD, 143/1 Tower Road, SLM1604, Sliema, Malta; c/o Soroush Sarzamin Asatir (SSA) Ship Management Co, Shabnam Alley Golriz St, Vafa Alley Fajr St, Shahid Motahari Avenue, 1589675951, Tehran, Iran; Business Registration Document #C39927 (Malta) issued 2006; E-mail Address info@ssa-smc.net; Web site http://www.ssa-smc.net; Telephone: 0035621317171; Telephone: 00982126100191; Fax: 0035621317172; Fax: 00982126100192 [NPWMD]

37. WOKING SHIPPING INVESTMENTS LIMITED, 143/1 Tower Road, SLM1604, Sliema, Malta; Business Registration Document #C39912 issued 2006; Telephone: 0035621317171; Fax: 0035621317172 [NPWMD]

Individuals

1. BATENI, Naser, Hamburg, Germany; DOB 16 Dec 1962; nationality Iran (individual) [NPWMD]

2. ESLAMI, Mansour; DOB 31 Jan 1965; nationality Iran (individual) [NPWMD]

3. NABIPOUR, Ghasem (a.k.a. POUR, Ghasem Nabi), 143 Shahid Lavasani Avenue, Farmanieh, Tehran, Iran; Suite B 12/F, Two Chinachem Plaza, 135 Des Voeux Road, Central, Hong Kong; DOB 16 Jan 1956; nationality Iran; Passport L11758148 (individual) [NPWMD]

4. SARKANDI, Ahmad (a.k.a. SARKANDI, Ahmed; a.k.a. SARKANDI, Akhmed), 2 Abbey Road, Barking Essex 1G11 7AX, London, United Kingdom; No 143 Shahid Lavasani Avenue, Farmanieh, Tehran, Iran; Suite B 12/F, Two Chinachem Plaza, 135 Des Voeux Road, Central, Hong Kong; 15 Rodney Court, Maida Vale, W9 1TQ, London, United Kingdom; DOB 30 Sep 1953; nationality Iran (individual) [NPWMD]

5. TALAI, Mohamad, Hamburg, Germany; DOB 4 Jun 1953; nationality Iran (individual) [NPWMD]

Dated: November 8, 2010.
Adam J. Szubin,
Director, Office of Foreign Assets Control.

[FR Doc. 2010-28967 Filed 11-16-10; 8:45 am]

BILLING CODE 4810-AL-P